DEPARTMENT OF HOMELAND SECURITY

Federal Emergency Management Agency

44 CFR Part 67

[Docket No. FEMA-B-7461]

Proposed Flood Elevation Determinations

AGENCY: Federal Emergency Management Agency (FEMA), Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William Blanton, Engineering Management Section, Mitigation Division, Federal Emergency Management Agency, 500 C Street SW., Washington, DC 20472, (202) 646-3151.

SUPPLEMENTARY INFORMATION: FEMA proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Guadalupe County, Texas and Incorporated Areas
Flooding source(s) | Location of referenced elevation | *Elevation in feet (NGVD) +Elevation in feet (NAVD) #Depth in feet above ground: Effective | *Elevation in feet (NGVD) +Elevation in feet (NAVD) #Depth in feet above ground: Modified | Communities affected
Cibolo Creek | At intersection of IH 35 and Cibolo Creek | *751 | +755 | Guadalupe County Uninc. Areas), City of Schertz.
| At intersection of Lookout Road and Cibolo Creek | *757 | +763
Cibolo Creek Tributary No. 13 | At confluence with East Branch Dietz Creek and Cibolo Creek Tributary No. 13 | None | +728 | Guadalupe County Uninc. Areas), City of Cibolo.
| Approximately 2,500 feet upstream of the confluence with East Branch Dietz Creek and Cibolo Creek Tributary No. 13 | None | +776
Dietz Creek | Approximately 1,000 feet downstream of the confluence with Cibolo Tributary 11 and Dietz Creek | None | +692 | Guadalupe County Uninc. Areas), City of Cibolo, City of Schertz.
| Approxiamtely 2,700 feet upstream of the confluence with Cibolo Tributary 16 and Dietz Creek | None | +766
East Branch Dietz Creek | Approximately 1,000 feet downstream of the intersection with Borgfield Road and Turncreek Avenue | None | +693 | Guadalupe County Uninc. Areas), City of Cibolo, City of Schertz.
| Approximately 1,100 feet NE of the intersection of Old Weiderstein Road and Cibolo Valley Drive | None | +844
Geronimo Creek | Approximately 3,100 feet downstream of the confluence with Geronimo Creek and Geronimo Tributary 2 | *457 | +464 | Guadalupe County Uninc. Areas), City of Seguin.
| Approximately 2,000 feet downstream of the confluence with Geronimo Creek and Geronimo Creek Tributary 2 | *460 | +464
Guadalupe River | At confluence with Geronimo Creek and Guadalupe River | *458 | +464 | Guadalupe County (Uninc. Areas), City of Seguin.
| Approximately 250 feet downstream of East County Line Road | *587 | +598
Town Creek | Approximately 350 feet downstream of Dean Road and Town Creek | None | +784 | Guadalupe County (Uninc. Areas), City of Cibolo.
| Approximately 1,300 feet upstream of Dean Road and Town Creek | None | +814
Town Creek Tributary 1 | At confluence with Town Creek and Town Creek Tributary 1 | *697 | +708 | Guadalupe County (Uninc. Areas), City of Cibolo.
| At Intersection of FM 1103 Road and Brite Road | *711 | +712
Walnut Branch | At confluence with Walnut Branch and Guadalupe River | None | +492 | Guadalupe County (Uninc. Areas).
| Appoxiamtely 1,500 feet upstream of McQueeny Dam | None | +548
ADDRESSES:
Unincorporated Areas of Guadalupe County
Maps are available for inspection at Maintenance Building, 415 East Donegan Street, Seguin, TX 78155.
Send comments to the Honorable Donald Schraub, County Judge, Guadalupe County, County Courthouse, Seguin TX 78155.
City of Cibolo
Maps are available for inspection at 109 South Main Street, Cibolo, TX 78108.
Send comments to the Honorable Johnny Sutton, Mayor, City of Cibolo, P.O. Box 826, Cibolo, TX 78108.
City of Schertz
Maps are available for inspection at Public Works Building, 10 Commercial Place, TX 78154.
Send comments to the Honorable Hal Baldwin, Mayor, City of Schertz, 1400 Schertz Parkway, Schertz, TX 78154.
City of Seguin
Maps are available for inspection at 210 East Gonzales, Seguin, TX 78155.
Send comments to the Honorable Betty Ann Maties, Mayor, City of Seguin, P.O. Box 581, Seguin, TX 78155.
#Depth in feet above ground.
*National Geodetic Vertical Datum.
+National American Vertical Datum.

(Catalog of Federal Domestic Assistance No. 83.100, “Flood Insurance.”)

Dated: June 8, 2006.
Michael K. Buckley,
Deputy Director, Mitigation Division, Federal Emergency Management Agency, Department of Homeland Security.

[FR Doc. E6-9518 Filed 6-16-06; 8:45 am]

BILLING CODE 9110-12-P